DEPARTMENT OF ENERGY

Federal Energy Regulatory Commission

[Project No. 15366-000]

Town of Stowe Electric Department; Notice of Application Accepted for Filing, Intent To Waive Scoping, Soliciting Motions To Intervene and Protests, Ready for Environmental Analysis, and Soliciting Comments, Recommendations, and Terms and Conditions

Take notice that the following hydroelectric application has been filed with the Commission and is available for public inspection.

a. Type of Application: Exemption from Licensing.

b. Project No.: 15366-000.

c. Date Filed: July 2, 2024.

d. Applicant: Town of Stowe Electric Department.

e. Name of Project: Smith's Falls Hydroelectric Project.

f. Location: On the Little River in the Town of Stowe, Lamoille County, Vermont.

g. Filed Pursuant to: Public Utility Regulatory Policies Act of 1978, 16 U.S.C. 2705, 2708, amended by the Hydropower Regulatory Efficiency Act of 2013, Public Law 113-23, 127 Stat. 493 (2013).

h. Applicant Contact: Mr. Michael Lazorchak, Manager, Regulatory Affairs, Town of Stowe Electric Department, P.O. Box 190, Stowe, VT 05672; telephone at (802) 253-7217; email at mlazorchak@stoweelectric.com.

i. FERC Contact: Joshua Dub, Project Coordinator, Great Lakes Branch, Division of Hydropower Licensing; telephone at (202) 502-8138; email at Joshua.Dub@FERC.gov.

j. Deadline for filing motions to intervene and protests, comments, recommendations, and terms and conditions: 60 days from the issuance date of this notice; reply comments are due 105 days from the issuance date of this notice.

The Commission strongly encourages electronic filing. Please file motions to intervene and protests, comments, recommendations, and terms and conditions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Smith's Falls Hydroelectric Project (P-15366-000).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: The proposed project would consist of an existing concrete dam that includes: (1) a new 10-foot-long south abutment; (2) an existing spillway that would be modified to include: (a) a 15-foot-long section with a new 2-foot-high concrete cap with a crest elevation of 635.8 feet North American Vertical Datum of 1988 (NAVD 88); and (b) a 145-foot-long section with a new 2-foot-high concrete cap and a new 3-foot-high inflatable rubber crest gate with a maximum crest elevation of 635.8 feet NAVD 88; (3) a new 10-foot-long non-overflow section with a 3-foot-long low-level outlet gate; (4) an existing 27-foot-long non-overflow section formed by a mill building; and (5) a new 24.9-foot-long intake structure with a 7-foot-long slide gate and a 22.4-foot-long trashrack with 1-inch clear bar spacing, that would replace an existing non-operational intake structure.

The existing spillway has a crest elevation of 634.5 to 635.9 feet NAVD 88, except for an approximately 23.5-foot-long breached section that has a crest elevation of 633.5 feet NAVD 88. The normal maximum surface elevation of the existing impoundment is 634.4 feet NAVD 88 and the surface area is 1.02 acres. The modified dam would create a 1.75-acre impoundment at a proposed normal maximum surface elevation of 636.0 feet NAVD 88.

From the impoundment, water would flow through the new intake structure into an approximately 105-foot-long concrete sluiceway that includes an existing 56-foot-long section and two new sections totaling approximately 49 feet in length. The sluiceway would convey water to a new 150-kilowatt vertical Kaplan turbine-generator in a new 22-foot-long, 15-foot-wide wood and steel powerhouse. Water would be discharged from the powerhouse to a new 40-foot-long, 12-foot-wide tailrace, where it would return to the Little River. The project would create an approximately 170-foot-long bypassed reach of the Little River.

Electricity generated at the project would be transmitted to the electric grid via a new underground 0.48-kilovolt (kV) generator lead line and a new 0.48/12.47-kV step-up transformer.

The Town proposes to provide the following recreation facilities: (1) a hand-carry boat access site on the shoreline of the impoundment; (2) a hand-carry boat portage route around the dam; and (3) a hand-carry boat and fishing access site on the riverbank downstream of the tailrace.

The minimum and maximum hydraulic capacities of the powerhouse would be 75 and 150 cubic feet per second (cfs), respectively. The average annual energy production of the project would be approximately 410 megawatt-hours.

The proposed project boundary encompasses approximately 3.3 acres, including: (1) a 1.75-acre impoundment; (2) 0.5 acre of land associated with the project facilities described above; (3) 0.7 acre of land adjacent to the shoreline of the impoundment; (4) 0.25 acre of land adjacent to the northern bank of the Little River downstream of the proposed tailrace; and (5) 0.1 acre of land associated with an existing parking area located approximately 30 feet north of the project dam.

The Town proposes to: (1) operate the project in a run-of-river mode and maintain the normal maximum surface elevation of the impoundment at 636.0 feet NAVD 88; and (2) release a continuous minimum flow of 15 cfs or inflow, whichever is less, over the rubber dam. The Town also proposes measures to protect, mitigate, and/or enhance geology and soils, aquatic resources, terrestrial resources, threatened and endangered species, recreation and aesthetic resources, and cultural resources.

m. Due to the existing dam and limited scope of the proposed rehabilitation of the project site; the applicant's close coordination with federal and state agencies during the preparation of the application; and completed studies during pre-filing consultation, we intend to waive scoping and expedite the exemption process. Commission staff determined that the issues that need to be addressed in the environmental document have been adequately identified during the pre-filing period, which included a public meeting and site visit, and no new issues are likely to be identified through additional scoping. Staff's environmental document will evaluate the potential effects of project construction and operation on geology and soils, aquatic, terrestrial, threatened and endangered species, recreation, land use, aesthetic, cultural, and developmental resources.

n. A copy of the application can be viewed on the Commission's website at https://www.ferc.gov using the “eLibrary” link. Enter the docket number excluding the last three digits in the docket number field to access the document. You may also register online at https://ferconline.ferc.gov/FERCOnline.aspx to be notified via email of new filings and issuances related to this or other pending projects. For assistance, contact FERC Online Support.

o. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

q. All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” or “TERMS AND CONDITIONS;” (2) set forth in the heading the name of the applicant and the project number of the application to which the filing responds; (3) furnish the name of the person submitting the filing; and (4) otherwise comply with the requirements of 18 CFR 385.2001 through 385.2005. All comments, recommendations, or terms and conditions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

r. The applicant must file no later than 60 days following the date of issuance of this notice: (1) a copy of the water quality certification; (2) a copy of the request for certification, including proof of the date on which the certifying agency received the request; or (3) evidence of waiver of water quality certification.

s. Final amendments to the application must be filed with the Commission no later than 30 days from the issuance date of this notice.

Dated: March 13, 2025.
Carlos D. Clay,
Deputy Secretary.

[FR Doc. 2025-04560 Filed 3-18-25; 8:45 am]

BILLING CODE 6717-01-P